DEPARTMENT OF LABOR

Veterans' Employment and Training Service

Agency Information Collection Activities; Comment Request: Employment Navigator Data Collection and Matching

ACTION: Notice.

SUMMARY: The Department of Labor's (DOL) Veterans' Employment and Training Service (VETS) is soliciting comments concerning a proposed authority to conduct the information collection request (ICR) titled, “Employment Navigator Data Collection and Matching.” This comment request is part of continuing Departmental efforts to reduce paperwork and respondent burden in accordance with the Paperwork Reduction Act of 1995 (PRA).

DATES: Comments must be submitted by January 2, 2024.

ADDRESSES: A copy of this ICR with applicable supporting documentation, including a description of the likely respondents, proposed frequency of response, and estimated total burden, may be obtained at no cost by contacting Serge King by telephone at 202.693.2982 (this is not a toll-free number), or by email at DOL_PRA_PUBLIC@dol.gov.

Submit written comments about, or requests for a copy of, this ICR by mail or courier to the U.S. Department of Labor, Veterans' Employment and Training Service, Transition Assistance Program, 200 Constitution Ave NW, Room S1212, Washington DC 20210; or by email: DOL_PRA_PUBLIC@dol.gov.

FOR FURTHER INFORMATION CONTACT: Serge King by telephone at 202.693.2982 (this is not a toll-free number) or by email at DOL_PRA_PUBLIC@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

DOL seeks approval of a new information collection request (ICR) titled “Employment Navigator Data Collection and Matching”. This request is for a “common forms” clearance process. There are three forms included in this ICR. The first form is a data collection mechanism for transitioning service members to provide general characteristics and background information as services are received from Employment Navigators. The second form includes additional data that is captured from government and non-government partners who will provide the service member, veteran, or spouse addition job seeker assistance after Employment Navigator data entry is complete. This form also includes any employment-related outcomes (e.g. job placement, job retention, and hourly wages earned) for each participant. The last form is a registration and validation form that all necessary partner entities must complete in order to be considered for partner status.

Authority: 44 U.S.C. 3506(c)(2)(A) authorizes this information collection. This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB 1205-0NEW.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-VETS.

Type of Review: NEW.

Title of Collection: Employment Navigator Data Collection and Matching.

Forms: Employment Navigator Intake (VETS-NEW1); Employment Navigator Partner Intake (VETS-NEW2); Employment Navigator Partner Validation Input (VETS-NEW3).

OMB Control Number: 1205-0NEW.

Affected Public: Individuals or Households.

Estimated Number of Respondents: 22,550.

Frequency: Annually.

Total Estimated Annual Responses: 22,550.

Estimated Average Time per Response: Varies.

Estimated Total Annual Burden Hours: 6,885 hours.

Total Estimated Annual Other Cost Burden: $204,425.25.

James D. Rodriguez,
Assistant Secretary for Veterans' Employment and Training Service.

[FR Doc. 2023-25000 Filed 11-13-23; 8:45 am]

BILLING CODE 4510-79-P